DEPARTMENT OF VETERANS AFFAIRS

Genomic Medicine Program Advisory Committee; Notice of Meeting

The Department of Veterans Affairs (VA) gives notice under Public Law 92-463 (Federal Advisory Committee Act) that the Genomic Medicine Program Advisory Committee will meet on October 16, 2006 in room 230 at the Department of Veterans Affairs, 810 Vermont Avenue, NW., Washington, DC. The meeting will convene at 8 a.m. and adjourn at 5:30 p.m. The meeting is open to the public.

The purpose of the Committee is to provide advice and make recommendations to the Secretary of Veterans Affairs on using genetic information to optimize medical care of veterans and to enhance development of tests and treatments for diseases particularly relevant to veterans.

The Committee will receive an overview of the VA health care system and electronic medical record, and will be asked to provide insight into optimal ways for VA to incorporate genomic information into its health care program while applying appropriate ethical oversight and protecting the privacy of veterans.

There will be a period reserved for public comments, and oral presentations will be limited to five minutes. Interested parties may provide written 1-2 page summaries of their comments for inclusion in the official meeting record.

Any member of the public seeking additional information should contact Dr. Timothy O'Leary at timothy.oleary@va.gov.

Dated: September 12, 2006.
By direction of the Secretary.
E. Philip Riggin,
Committee Management Officer.

[FR Doc. 06-7760 Filed 9-18-06; 8:45 am]

BILLING CODE 8320-01-M